JUDICIAL CONFERENCE OF THE UNITED STATES

Advisory Committee on Criminal Rules; Meeting of the Judicial Conference

AGENCY: Judicial Conference of the United States.

ACTION: Advisory Committee on Criminal Rules; notice of open meeting.

SUMMARY: The Advisory Committee on Criminal Rules will hold a meeting in a hybrid format with remote attendance options on April 18, 2024 in Washington, DC. The meeting is open to the public for observation but not participation. An agenda and supporting materials will be posted at least 7 days in advance of the meeting at: https://www.uscourts.gov/rules-policies/records-and-archives-rules-committees/agenda-books.

DATES: April 18, 2024.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: January 23, 2024.
Shelly L. Cox,
Management Analyst, Rules Committee Staff.

[FR Doc. 2024-01608 Filed 1-26-24; 8:45 am]

BILLING CODE 2210-55-P